DEPARTMENT OF ENERGY

Federal Energy Regulatory Commission

Combined Notice of Filings #2

Take notice that the Commission received the following electric rate filings:

Docket Numbers: ER10-1827-001; ER10-1825-001

Applicants: Cleco Power LLC, Cleco Evangeline LLC

Description: Amendment to Notice of Non-Material Change in Status Filing of Cleco Power LLC, et al.

Filed Date: 2/6/12

Accession Number: 20120206-5104

Comments Due: 5 p.m. ET 3/20/12

Docket Numbers: ER12-858-001

Applicants: Arizona Public Service Company

Description: Errata filing for Rate Schedule Nos. 211, 242 and 243 to be effective 3/21/2012.

Filed Date: 2/28/12

Accession Number: 20120228-5087

Comments Due: 5 p.m. ET 3/20/12

Docket Numbers: ER12-1171-000

Applicants: CWP Energy

Description: Application for MBR Authority and Request for Waivers and Blanket Authorization to be effective 2/29/2012.

Filed Date: 2/28/12

Accession Number: 20120228-5103

Comments Due: 5 p.m. ET 3/20/12

Docket Numbers: ER12-1172-000

Applicants: Arizona Public Service Company

Description: Arizona Public Service Company submits Notice of Cancellation.

Filed Date: 2/28/12

Accession Number: 20120228-5107

Comments Due: 5 p.m. ET 3/20/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2012.
Nathaniel J. Davis, Sr.,
Deputy Secretary.

[FR Doc. 2012-5339 Filed 3-5-12; 8:45 am]

BILLING CODE 6717-01-P